ENVIRONMENTAL PROTECTION AGENCY

[FRL OP-OFA-008]

Environmental Impact Statements; Notice of Availability

Responsible Agency: Office of Federal Activities, General Information 202-564-5632 or https://www.epa.gov/nepa.

Weekly receipt of Environmental Impact Statements (EIS)

Filed March 7, 2022 10 a.m. EST Through March 14, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220030, Final, BR, WY, Adoption—Leavitt Reservoir Expansion Project, Review Period Ends: 04/18/2022, Contact: Shain L. Wright 307-261-5664.

The Bureau of Reclamation (BR) has adopted the Bureau of Land Management's Final EIS No. 20190076, filed 4/24/2019 with the Environmental Protection Agency. The BR was not a cooperating agency on this project. Therefore, republication of the document is necessary under Section 1506.3(c) of the CEQ regulations.

EIS No. 20220031, Final, USCG, Other, Waterways Commerce Cutter Acquisition, Review Period Ends: 04/18/2022, Contact: Andrew Haley 202-372-1821.

EIS No. 20220032, Draft, FHWA, SC, Bishopville Truck Route Project, Comment Period Ends: 05/09/2022, Contact: Jeffrey Belcher 803-253-3187.

EIS No. 20220033, Third Draft Supplemental, USN, AK, Gulf of Alaska Navy Training Activities, Comment Period Ends: 05/02/2022, Contact: Kimberly Kler 360-315-5103.

EIS No. 20220034, Draft Supplement, USACE, LA, West Shore Lake Pontchartrain Hurricane and Storm Damage Risk Reduction Study, Comment Period Ends: 05/02/2022, Contact: Landon Parr 504-862-1908.

EIS No. 20220035, Draft, NOAA, OR, Western Oregon State Forests Habitat Conservation Plan, Comment Period Ends: 05/17/2022, Contact: Michelle McMullin 541-957-3378.

Dated: March 14, 2022.
Cindy S. Barger,
Director, NEPA Compliance Division, Office of Federal Activities.

[FR Doc. 2022-05736 Filed 3-17-22; 8:45 am]

BILLING CODE 6560-50-P